DEPARTMENT OF THE INTERIOR

Bureau of Indian Affairs

Notice of Intent To Prepare an Environmental Impact Statement for the Confederated Tribes of the Warm Springs Reservation of Oregon Proposed Trust Acquisition and Resort and Casino Project, Cascade Locks, Hood River County, OR

AGENCY: Bureau of Indian Affairs, Interior.

ACTION: Notice.

SUMMARY: This notice advises the public that the Bureau of Indian Affairs (BIA) as lead agency, in cooperation with the Confederated Tribes of the Warm Springs Reservation of Oregon (Tribes), intends to prepare an Environmental Impact Statement (EIS) for a proposed 25-acre trust acquisition and resort and casino project, including transportation system improvements, to be located within the city of Cascade Locks, Hood River County, Oregon. Other cooperating agencies include the Oregon Department of Transportation, the city of Cascade Locks, the port of Cascade Locks, Hood River County and, because of proposed transportation system improvements to Interstate 84, the Federal Highway Administration. The purpose of the proposed action is to improve the economy of the Tribes and help their members attain economic self-sufficiency. This notice also announces public scoping meetings to identify potential issues and alternatives to be considered in the EIS.

DATES: Written comments on the scope of the EIS or implementation of the proposal must arrive by September 30, 2005.

Public scoping meetings will be held on the following dates and times:

1. September 15, 2005, 6 p.m. to 8:30 p.m., Cascade Locks, Oregon.

2. September 17, 2005, 9:30 a.m. to 12:00 p.m., Cascade Locks, Oregon.

3. September 19, 2005, 5 p.m. to 8 p.m., Portland, Oregon.

4. September 21, 2005, 6 p.m. to 8:30 p.m., Hood River, Oregon.

5. September 28, 2005, 6 p.m. to 8:30 p.m., Stevenson, Washington.

ADDRESSES: You may mail or hand carry written comments to Ms. June Boynton, Environmental Protection Specialist, Division of Environment, Safety, and Cultural Resources Management, Bureau of Indian Affairs, 911 Northeast 11th Avenue, Portland, Oregon 97232. You may also fax your comments to (503) 231-6791, or submit them electronically at the project Web site, www.gorgecasinoEIS.com. (Note: BIA cannot receive electronic comments directly via e-mail at this time.) Please include your name, return address, and the caption, “DEIS Scoping Comments, Confederated Tribes of the Warm Springs Reservation of Oregon Trust Acquisition and Resort/Casino Project,” on the first page of your written comments.

The locations of the public scoping meetings are as follows:

1. Cascade Locks—Port of Cascade Locks Gorge Pavilion, Marine Park, 355 Wa-Na-Pa Street, Cascade Locks, Oregon.

2. Cascade Locks—Port of Cascade Locks Gorge Pavilion, Marine Park, 355 Wa-Na-Pa Street, Cascade Locks, Oregon.

3. Portland—Benson High School Cafeteria, 546 NE 12th Avenue, Portland, Oregon.

4. Hood River—Hood River Inn, 1108 East Marina Way, Hood River, Oregon.

5. Stevenson—Rock Creek Center, 710 SW Rock Creek Drive, Stevenson, Washington.

FOR FURTHER INFORMATION CONTACT: June Boynton, (503) 231-6749.

SUPPLEMENTARY INFORMATION: The Bureau of Indian Affairs is considering the Tribes' application for 25 acres of land to be taken into trust for the development of gaming and related entertainment facilities. The 25 acres proposed for trust acquisition are part of a 60-acre tract located at the eastern edge of the city of Cascade Locks in Hood River County, Oregon.

The EIS will include an evaluation of alternatives for meeting the proposed facilities' access needs from Interstate 84. The transportation analysis will include all reasonable alternatives for access from Interstate 84, including modifying or eliminating the existing partial interchanges known as Herman Creek Interchange and East Cascade Locks Interchange. The EIS will also analyze a new interchange at Forest Lane. Although the eventual size and scope of the facilities may be modified based on information obtained through the EIS process, the Tribes' current proposal for the new gaming facility, on acquired trust land, would have a 90,000-square-foot gaming floor connected to retail shops, dining venues, and a 250-room hotel and spa. The facility would provide parking for 3,600 vehicles, including a parking garage and spaces for oversized vehicles. The proposed action encompasses the various federal approvals required to implement the Tribes' fee-to-trust application. Areas of environmental concern identified so far for analysis in the EIS include water resources, air quality, biological resources, cultural resources, socioeconomic conditions, traffic and transportation, land use, public utilities and services, noise, lighting, hazardous materials, environmental justice, and visual resources/aesthetics. The range of issues and alternatives to be addressed in the EIS may be expanded based on comments received in response to this notice and at the public scoping meetings.

Public Comment Availability

Comments, including names and addresses of respondents, will be available for public review at the mailing address shown in the ADDRESSES section during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses and from individuals identifying themselves as representatives or officials of organizations or businesses will be made available for public inspection in their entirety.

Authority

This notice is published in accordance with section 1503.1 of the Council on Environmental Quality regulations (40 CFR parts 1500 through 1508) implementing the procedural requirements of the National Environmental Policy Act of 1969, as amended (42 U.S.C. 4321 et seq.), and the Department of Interior Manual (516 DM 1-6), and is in the exercise of authority delegated to the Principal Deputy Assistant Secretary “ Indian Affairs by 209 DM 8.1.

Dated: August 3, 2005.
Debbie L. Clark,
Acting Principal Deputy Assistant Secretary—Indian Affairs.

[FR Doc. 05-17167 Filed 8-29-05; 8:45 am]

BILLING CODE 4310-W7-P